Title 3—

The President

Memorandum of November 19, 2019

Ocean Mapping of the United States Exclusive Economic Zone and the Shoreline and Nearshore of Alaska

Memorandum for the Secretary of State[,] the Secretary of Defense[,] the Attorney General[,] the Secretary of the Interior[,] the Secretary of Agriculture[,] the Secretary of Commerce[,] the Secretary of Transportation[,] the Secretary of Energy[,] the Secretary of Homeland Security[,] the Administrator of the Environmental Protection Agency[,] the Director of the Office of Management and Budget[,] the Administrator of the National Aeronautics and Space Administration[,] the Director of the National Science Foundation[,] the Director of National Intelligence[,] the Chairman of the Joint Chiefs of Staff[,] the Administrator of the National Oceanic and Atmospheric Administration[,] the Assistant Secretary of the Army for Civil Works[,] the Commandant of the Coast Guard[,] the Assistant to the President for National Security Affairs[,] the Assistant to the President for Domestic Policy[,] the Assistant to the President for Economic Policy[,] the Director of the Office of Science and Technology Policy[,] the Chairman of the Council on Environmental Quality[, and] the Deputy Assistant to the President for Homeland Security and Counterterrorism

By the authority vested in me as President by the Constitution and the laws of the United States of America, I hereby direct the following:

Section 1. Policy. It is the policy of the United States to act boldly to safeguard our future prosperity, health, and national security through ocean mapping, exploration, and characterization. Data and information about the ocean help to advance maritime commerce, domestic seafood production, healthy and sustainable fisheries, coastal resilience, energy production, tourism and recreation, environmental protection, national and homeland security, and other interests. Such activities contribute more than $300 billion per year of economic activity, 3 million jobs, and $129 billion in wages.

On March 10, 1983, President Reagan issued Proclamation 5030 (Exclusive Economic Zone of the United States of America), which established the United States Exclusive Economic Zone (U.S. EEZ) to advance the development of ocean resources and promote the protection of the marine environment. With more than 13,000 miles of coastline and 3.4 million square nautical miles of ocean within our territorial jurisdiction, our country's EEZ is among the largest in the world and is larger than the combined land area of all 50 States. The U.S. EEZ contains a vast array of underutilized, and likely many undiscovered, natural resources, including critical minerals, marine-derived pharmaceuticals, energy, and areas of significant ecological and conservation value. However, only about 40 percent of the U.S. EEZ has been mapped and significantly less of the area has natural resources and ocean systems that have been characterized, including identification and evaluation, by executive departments and agencies (agencies).

The Nation is poised to harness cutting-edge science, new technologies, and partnerships to unlock the potential of our oceans through increased ocean mapping.

Maps and charts that present accurate and contemporary coastal elevation data support economic growth, resource management, and the safety and security of coastal residents. Completed mapping is especially lacking for Alaska and for the Alaskan Arctic, which lack the comprehensive shoreline and nearshore maps available for much of the rest of the Nation.

To improve our Nation's understanding of our vast ocean resources and to advance the economic, security, and environmental interests of the United States, it is the policy of the United States to support the conservation, management, and balanced use of America's oceans by exploring, mapping, and characterizing the U.S. EEZ, including mapping the Arctic and Sub-Arctic shoreline and nearshore of Alaska. Further, to ensure that these activities produce the broadest possible benefits and provide the greatest return on investment of Federal resources, it is the policy of the United States to support these activities, when appropriate, in collaboration with non-United States Government entities.

Sec. 2. National Strategy for Mapping, Exploring, and Characterizing the U.S. EEZ. Mapping, exploring, and characterizing the U.S. EEZ is necessary for a systematic and efficient approach to understanding our resources. Mapping will reveal the terrain of the ocean floor and identify areas of particular interest; exploration and characterization will identify and evaluate natural and cultural resources within these areas. This knowledge will inform conservation, management, and balanced use of the U.S. EEZ.

To advance these objectives, the Director of the Office of Science and Technology Policy (Director) and the Chairman of the Council on Environmental Quality (Chairman), who serve as co-chairs of the Ocean Policy Committee established by Executive Order 13840 of June 19, 2018 (Ocean Policy to Advance the Economic, Security, and Environmental Interests of the United States), shall coordinate the development of a national strategy for mapping, exploring, and characterizing the U.S. EEZ, and for enhancing opportunities for collaboration among interagency and non-United States Government entities with respect to those activities. Specifically, within 180 days of the date of this memorandum, the Ocean Policy Committee, working through its Ocean Science and Technology Subcommittee and in coordination with the Administrator of the National Oceanic and Atmospheric Administration, shall develop a proposed strategy to map the U.S. EEZ, to identify priority areas within the U.S. EEZ, and to explore and characterize the priority areas, and shall submit it to the Director and the Chairman.

Sec. 3. Strategy for Mapping the Arctic and Sub-Arctic Shoreline and Nearshore of Alaska. Within 180 days of the date of this memorandum, the Administrator of the National Oceanic and Atmospheric Administration, in coordination, as appropriate, with the State of Alaska and the Alaska Mapping Executive Committee, shall develop a proposed strategy to map the shoreline and nearshore of Alaska and shall submit it to the Director and the Chairman to inform actions of the Ocean Policy Committee and relevant agencies.

Sec. 4. Efficient Permitting of Mapping, Exploration, and Characterization Activities. The United States Government, in coordination with non-United States Government entities, conducts hundreds of ocean exploration, mapping, and research activities every year across the U.S. EEZ. These activities improve our understanding of our oceans, including by identifying potential new sources of critical minerals, biopharmaceuticals, energy, and other resources. These activities frequently require multiple environmental reviews, consultations, permits, and other authorizations under Federal laws and regulations that protect resources such as maritime heritage sites and sensitive or protected marine natural resources. In order to reduce duplication and promote efficiency across agencies, within 180 days of the date of this memorandum, the Ocean Policy Committee, working through its Ocean Resource Management Subcommittee, shall identify opportunities and recommend actions to the Director and the Chairman to increase the efficiency of the permitting and authorization processes for ocean research, mapping, and characterization activities across agencies.

Sec. 5. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary of Commerce is hereby authorized and directed to publish this memorandum in the Federal Register.

THE WHITE HOUSE,

Washington, November 19, 2019

[FR Doc. 2019-25618

Filed 11-21-19; 11:15 am]

Billing code 3510-07-P